OFFICE OF MANAGEMENT AND BUDGET

Agency Information Collection Activities; Request for Comments; Information on Meetings With Outside Parties

AGENCY: Office of Management and Budget, Executive Office of the President.

ACTION: Notice and request for comments.

SUMMARY: The Office of Information and Regulatory Affairs (OIRA) within the Office of Management and Budget (OMB) is proposing to revise the information collection 0348-0065 that it uses for members of the public who request a meeting with OIRA on rules under review. The information collected would be subject to the Paperwork Reduction Act (PRA) and this notice announces and requests comment on OIRA's proposal for such a collection.

DATES: Provide comments within 30 days of January 25, 2024.

ADDRESSES: Submit comments by the following method:

• Federal eRulemaking portal: https://www.regulations.gov. Follow the instructions for submitting comments. Comments submitted electronically, including attachments to https://www.regulations.gov, will be posted to the docket unchanged. Please submit comments only and cite “Information Collection 0348-0065” in all correspondence related to this collection. To confirm receipt of your comment(s), please check regulations.gov, approximately two to three business days after submission to verify.

FOR FURTHER INFORMATION CONTACT: Lisa Jones, 202-395-5897.

SUPPLEMENTARY INFORMATION:

Title: Information on Meetings with Outside Parties Pursuant to Executive Order 12866.

Abstract: Executive Order 12866, “Regulatory Planning and Review,” issued by President Clinton on September 30, 1993, as amended, establishes and governs the process under which OIRA reviews agency draft proposed and final regulatory actions. The Executive Order also establishes a disclosure process regarding the OIRA Administrator's (or his/her designee's) meetings with outside parties during formal review of a regulatory action (E.O. 12866 meetings) if such meetings occur.

Summary of Current Meeting Process. OIRA currently discloses the subject, date, and participants of the E.O. 12866 meeting on the Reginfo.gov website, as well as any materials provided to OIRA at such meetings.

These meetings occur at the initiative and request of outside parties who request a meeting to present views on a regulatory action under OIRA review. OIRA invites representatives from the agency or agencies that would issue the regulatory action. If such meetings occur, OIRA does not take minutes during the meeting but would post on RegInfo.gov any written materials provided by outside parties during these meetings, including the initial meeting request.

To help ensure transparency associated with meetings pursuant to Executive Order 12866, OIRA collects and discloses the following information from outside parties that request a meeting with OIRA to present their views on a regulatory action currently under review:

1. The name of the regulatory action under review on which the party would like to present its views.

2. Names of all attendees who will be present at the meeting from the outside party or parties, including each attendee's organization or affiliation.

3. Electronic copies of all briefing materials provided by the requester that will be used during the presentation.

4. An acknowledgment by the requesting party that all information submitted to OIRA pursuant to this collection and meeting request will be made publicly available at Reginfo.gov.

Proposed Revisions. OMB is considering revisions to this information collection with the goal of collecting additional information from meeting requesters to facilitate further transparency, as well as improve the efficiency and effectiveness of the meeting request process. Such information includes:

• Narrative descriptions accompanying meeting requests. An optional narrative description, provided by the requester, that states the purpose of the meeting and a brief, informal summary of the views they anticipate presenting. This information, which would be disclosed, would help OIRA and action agencies invite the appropriate government officials, particularly when regulatory actions may address many subjects and have many separate provisions.

• Meeting requesters and represented interests. Individual or organizational meeting requesters often request meetings on behalf of themselves. Sometimes, however, a meeting requester does so on behalf of another individual or organization with interests in the regulatory action. For example, a law firm or government affairs firm may request an E.O. 12866 meeting on behalf of a client who has a stake in the regulatory action. In other cases, a congressional office may facilitate a meeting request for an individual constituent concerned about a rulemaking. OIRA thus proposes to collect information in mandatory fields on the (1) name of the individual requesting the meeting; (2) the meeting requester's organization, if any; (3) the name of the individual or organization whose interests are being represented; and (4) if the previous field names an individual, the individual's organizational affiliation, if any.

This information would facilitate transparency about who requests E.O. 12866 meetings, the interests represented, and the types of organizations involved. In addition, OIRA will also continue to take meeting attendance and, when feasible, update this information for the public record in cases where participant information is not initially provided.

• Previous request or participation in an E.O. 12866 meeting. OIRA proposes to require meeting requesters (the individual participants rather than their representatives) to note whether they have previously requested or participated in an E.O. 12866 meeting on any regulatory action within the last three years. This information, which would be disclosed, would allow OIRA to track participation of members of the public that have not historically requested meetings. In addition, OIRA proposes to ask and disclose whether a requester has previously requested or participated in an E.O. 12866 meeting associated with the specific regulatory action (at the same stage of the regulatory process).

• Request for accommodations. OIRA also welcomes meeting requesters to specify whether any accommodations are requested.

OIRA welcomes any and all public comments on the proposed revisions to the collection of information, such as the accuracy of OIRA's burden estimate, the practical utility of collecting this information, and whether there are additional pieces of information that could be collected from meeting requesters to further the disclosure provisions of Executive Order 12866.

Current actions: Proposal for revising an existing information collection requirement.

Type of review: Revision.

Affected public: Individuals and Households, Businesses and Organizations, State, Local, Territorial, or Tribal Governments.

Expected average annual number of respondents: 300.

Average annual number of responses per respondent: 2.

Total number of responses annually: 600.

Burden per response: 15 minutes.

Total average annual burden: 150 hours.

Request for comments: OMB anticipates that comments submitted in response to this notice will be summarized or included in the request for OMB approval. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions; to develop, acquire, install, and utilize technology and systems for the purpose of collecting, validating, and verifying information, processing and maintaining information, and disclosing and providing information; to respond to a collection of information, search data sources, and complete and review the collection of information; to transmit or otherwise disclose the information; and to train personnel to be able to carry out the foregoing tasks.

An agency may not conduct or sponsor, and a person is not required to respond to, a collection of information unless it displays a currently valid OMB control number.

Privacy Act Statement: Response to this request for comment is voluntary. The information will be used to inform sound decision-making regarding OIRA's information collection. Please note that all submissions received in response to this notice may be posted on https://www.regulations.gov/ or otherwise released in their entirety, including any personal and business confidential information provided. Do not include in your submissions any information of a confidential nature, such as personal or proprietary information; or any information you would not like to be made publicly available. The OMB System of Records Notice, OMB Public Input System of Records, OMB/INPUT/01, 88 FR 20913 (https://www.federalregister.gov/documents/2023/04/07/2023-07452/privacy-act-of-1974-system-of-records), includes a list of routine uses associated with the collection of this information.

Richard L. Revesz,
Administrator, Office of Information and Regulatory Affairs.

[FR Doc. 2024-01404 Filed 1-24-24; 8:45 am]

BILLING CODE 3110-01-P